DEPARTMENT OF JUSTICE

Drug Enforcement Administration

Manufacturer of Controlled Substances; Notice of Registration

By Notice dated March 25, 2005, and published in the Federal Register on April 4, 2005 (70 FR 17124-17125), Mallinckrodt Inc., 3600 North Second Street, St. Louis, Missouri 63147, made application by renewal to the Drug Enforcement Administration (DEA) to be registered as a bulk manufacturer of the basic classes of controlled substances listed in Schedules I and II:

Drug | Schedule
Tetrahydrocannabinols (7370) | I
Codeine-N-oxide (9053) | I
Dihydromorphine (9145) | I
Difenoxin (9168) | I
Morphine-N-oxide (9307) | I
Normorphine (9313) | I
Norlevorphanol (9634) | I
Amphetamine (1100) | II
Methamphetamine (1105) | II
Methylphenidate (1724) | II
Codeine (9050) | II
Diprenorphine (9058) | II
Etorphine HCL (9059) | II
Dihydrocodeine (9120) | II
Hydromorphone (9150) | II
Oxycodone (9143) | II
Diphenoxylate (9170) | II
Benzoylecgonine (9180) | II
Hydrocodone (9193) | II
Levorphanol (9220) | II
Meperidine (9230) | II
Methadone (9250) | II
Methadone Intermediate (9254) | II
Metopon (9260) | II
Dextropropoxyphene (9273) | II
Morphine (9300) | II
Thebaine (9333) | II
Opium extracts (9610) | II
Opium fluid extract (9620) | II
Opium tincture (9630) | II
Opium, powdered (9639) | II
Opium, granulated (9640) | II
Levo-alphacetylmethadol (9648) | II
Oxymorphone (9652) | II
Noroxymorphone (9668) | II
Alfentanil (9737) | II
Remifentanil (9739) | II
Sufentanil (9740) | II
Fentanyl (9801) | II

The company plans to manufacture the listed controlled substances for internal use and for distribution to its customers.

No comments or objections have been received. DEA has considered the factors in 21 U.S.C. 823(a) and determined that the registration of Mallinckrodt Inc. to manufacture the listed basic classes of controlled substances is consistent with the public interest at this time. DEA has investigated Mallinckrodt Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: August 11, 2005.
William J. Walker,
Deputy Assistant Administrator, Office of Diversion Control, Drug Enforcement Administration.

[FR Doc. 05-16288 Filed 8-16-05; 8:45 am]

BILLING CODE 4410-09-U